FEDERAL COMMUNICATIONS COMMISSION

Notice of Public Information Collection(s) Being Submitted for Review to the Office of Management and Budget

August 11, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 30, 2005. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov. If you would like to obtain or view a copy of this new or revised information collection, you may do so by visiting the FCC PRA Web page at: http://www.fcc.gov/omd/pra.

FOR FURTHER INFORMATION CONTACT: For additional information or copies of the information collection(s), contact Judith B. Herman at (202) 418-0214 or via the Internet at Judith-B.Herman@fcc.gov.

SUPPLEMENTARY INFORMATION: OMB Control No.: 3060-0742.

Title: Telephone Number Portability (47 CFR Part 52, Subpart C, Sections 52.21-52.33) and CC Docket No. 95-116.

Form No.: N/A.

Type of Review: Revision of a currently approved collection.

Respondents: Business or other for-profit.

Number of Respondents: 1,960 respondents; 2,027 responses.

Estimated Time Per Response: 2-149 hours.

Frequency of Response: On occasion and one time reporting requirements, third party disclosure requirement and recordkeeping requirement.

Total Annual Burden: 14,333 hours.

Total Annual Cost: $84,000.

Privacy Act Impact Assessment: N/A.

Needs and Uses: The Commission is revising this information collection due to the addition of wireless carriers providing local number portability (LNP), the removal of the certification requirement and an increase in the number of carriers proving LNP. The Commission requires the following information to be collected from various entities: (1) Requests for long-term number portability must be provided by local exchange carriers (LECs) and Commercial Mobile Radio Service (CMRS) providers (which now includes wireless carriers) in switches for which another carrier has made a specific request for number portability, according to the Commission's deployment schedule; (2) carriers that are unable to meet the deadlines for implementing a long-term number portability solution are required to file with the Commission (at least 60 days in advance of the deadline) a petition to extend the time by which implementation in its network will be completed; (3) incumbent LECs may recover their carrier-specific costs directly related to providing long-term number portability by establishing in tariffs filed with the Commission certain number portability charges. Incumbent LECs are required to include many details in their cost support that are unique to the number portability proceeding pursuant to the Cost Classification Order. For instance, incumbent LECs must demonstrate that any incremental overhead costs claimed in their cost support are actually new costs incremental to and resulting from the provision of long-term number portability; and (4) Incumbent LECs are required to maintain records that detail both the nature and specific amount of these carrier-specific costs that are directly related to number portability, and those carrier-specific costs that are not directly related to number portability (recordkeeping requirement).

OMB Control No.: 3060-0139.

Title: Application for Antenna Structure Registration.

Form Nos.: FCC Forms 854 and 854R.

Type of Review: Revision of a currently approved collection.

Respondents: Individuals or households, business or other for-profit, not-for-profit institutions, and State, local or tribal government.

Number of Respondents: 4,500 respondents; 9,000 responses.

Estimated Time Per Response: .5 hours—1 hour.

Frequency of Response: On occasion reporting requirement, third party disclosure requirement and recordkeeping requirement.

Total Annual Burden: 6,750 hours.

Total Annual Cost: $183,000.

Privacy Act Impact Assessment: Yes.

Needs and Uses: The Commission is revising FCC Forms 854 and 854R to correct an email address, Web site addresses, telephone numbers and instructions for obtaining FCC Registration Numbers (FRNs) in the General Instructions.

FCC Form 854 is used to register antenna structures used for wire or radio communication service in any area where radio services are regulated by the Commission; to make changes to existing registered structures or pending applications; or to notify the Commission of the completion of construction or dismantlement of structures, as required by Title 47 of the Code of Federal Regulations, Chapter 1, Part 17 (FCC Rules Part 17).

One of the Commission's primary responsibilities is to ensure that antenna structures do not pose a threat to air safety. The information will be used by the Commission to maintain a current registration database which increases air safety by allowing the Federal Aviation Administration (FAA) and the Commission to identify potential hazards.

Federal Communications Commission.
Marlene H. Dortch,
Secretary.

[FR Doc. 05-17042 Filed 8-30-05; 8:45 am]

BILLING CODE 6712-01-P